DEPARTMENT OF TRANSPORTATION

Federal Transit Administration

Alternatives Analysis Discretionary Program

AGENCY: Federal Transit Administration (FTA), DOT.

ACTION: Notice of Funding Availability; Alternatives Analysis Discretionary Program.

SUMMARY: This notice solicits proposals to compete for $12 million in Section 5339 funds to support technical work conducted within an alternatives analysis, in which one of the alternatives is a major transit capital investment. Under this authority, FTA will allocate the available discretionary funding for alternatives analysis. This analysis will support technical work that will improve and expand the information available to decision-makers considering potential New Starts and Small Starts funding. FTA will give priority to alternatives analyses that would add tasks to collect and analyze data on transit ridership patterns, the travel times of buses operating in mixed traffic, and/or other information on the current performance of the transit system. FTA will also give priority to proposals to develop and apply methods to estimate the time savings experienced by highway users that result from transit investments as well as proposals to develop and apply simplified travel forecasting approaches for Small Starts alternatives that cannot be addressed easily by the existing regional travel forecasting procedures. FTA encourages potential study sponsors to contact FTA to discuss the development of proposals under this section.

DATES: Complete proposals must be received by the designated Federal Transit Administration contact listed in this notice by the close of business May 22, 2007.

ADDRESSES: Proposals may be submitted electronically through the Grants.Gov Web site or via e-mail to 5339GrantApplication@dot.gov with the State and grantee name in the subject line. Applicants applying to Grants.Gov may also send an e-mail to 5339GrantApplication@dot.gov to receive confirmation that FTA retrieved the application. FTA will reply via e-mail within 3 business days to all e-mails received through 5339GrantApplication@dot.gov.

FOR FURTHER INFORMATION CONTACT: Steve Lewis-Workman at the Federal Transit Administration, Office of Planning and Environment, by phone at 202-366-1868 or by e-mail at steven.lewisworkman@dot.gov.

SUPPLEMENTARY INFORMATION:

Table of Contents

I. General Program Information

II. Proposal Review, Selection, and Notification

III. Additional Program Information

I. General Program Information

A. Authority

FTA has the authority to implement this program under the Safe, Accountable, Flexible, Efficient Transportation Equity Act—A Legacy for Users (SAFETEA-LU) amendments to Section 5339. FTA may allocate $6 million from FY2006 and $6 million from FY2007.

B. Background

The “Revised Continuing Appropriations Resolution, 2007” (Pub. L. 110-05) enacted, February 15, 2007, made available $6 million in FY 2007 funds to FTA for discretionary allocation. In addition, a balance of $6 million of FY 2006 funding that was not allocated to specific projects in the FY 2006 appropriations legislation is also available for discretionary award in FY 2007, for a total of $12 million.

The authorizing legislation allows for the Secretary of Transportation to make awards under this program at her discretion. These funds will be allocated for alternatives analysis activities selected from applications submitted in response to this notice.

C. Eligible Applicants

Section 5339 allows FTA to make grants and agreements, under criteria established by the Secretary, to States, authorities of the States, metropolitan planning organizations, and local governmental authorities to develop alternatives analyses as defined by section 5309(a)(1). Eligible study sponsors must be able to incorporate the results of this work into an ongoing alternatives analysis study or must commit to initiate an alternatives analysis study within 12 months of the grant approval.

D. Eligible Expenses

FTA will allocate available discretionary funding for alternatives analysis to support technical work that will improve and expand the information available to decision-makers considering funding for potential New Starts and Small Starts projects. FTA will give priority to alternatives analyses that would add one or more of the following tasks to:

(1) Collect and analyze data on transit ridership patterns and use the results to validate travel forecasting models.

(2) Collect and analyze the travel times of buses operating in mixed traffic, and other information on the current performance of the transit system, and use the results to determine the user benefits attributable to better reliability of fixed guideway projects.

(3) Develop and apply simplified travel forecasting approaches for Small Starts alternatives.

(4) Develop improved methods for estimating the highway system user travel time savings associated with public transit alternatives.

FTA will consider proposals for other areas of technical work that can better develop information about the costs and benefits of projects seeking New or Small Starts funding.

E. Proposal Evaluation Criteria and Other Considerations

FTA's intent in allocating funding for alternatives analysis is to support tasks that will improve and expand the information available to decision-makers considering funding for proposed New Starts and Small Starts projects. Alternatives analyses must be documented in the Unified Planning Work Program (UPWP) of the metropolitan planning organization (MPO) for the area, with a commitment to begin the alternatives analysis study within 12 months of grant approval, or already underway. Proposals will be evaluated and awarded points as follows:

(1) Demonstrated Need: (30 Points)

Study sponsors may demonstrate need for these funds by demonstrating a substantial transportation problem in the study corridor and the presence of one or more of the following conditions:

(a) The lack a recent survey of transit riders;

(b) The lack of useful information on bus travel times and schedule reliability in the presence of substantial traffic congestion that affects the travel speeds and schedule reliability of buses operating in mixed traffic;

(c) A study that contains Small Starts alternatives for which the existing regional travel forecasting models are deemed inappropriate;

(d) The degree to which technical work will develop information on the full range of costs and benefits of projects seeking New or Small starts funding.

In addition, FTA will give additional consideration to studies in metropolitan areas that are part of the Department's Congestion Initiative.

(2) Potential Impact on Decision-Making (40 Points)

Study sponsors must demonstrate the potential impact of the proposed tasks on decision-making. For example, for a task to collect and analyze bus travel times, this could be accomplished by considering alternatives that would improve transit speeds and schedule reliability, having access to electronically archived data from an Automated Vehicle Locator system, and anticipating the analysis of information on a variety of transit operating regimes. The operating regimes include local buses, limited-stop buses, bus rapid transit, and other services.

(3) Capacity of the Applicant To Carry Out the Proposed Work Successfully (30 Points)

Study sponsors will demonstrate capacity to successfully undertake the proposed tasks by the quality of the local procedures for predicting the system performance, multimodal impacts, and ridership response of new transit investments, and the track record, if any, of the applicant in the prediction of ridership for previous New Starts projects.

Outstanding proposals in study areas with substantial transportation problems could receive up to $2 million in 5339 funding.

II. Proposal Development, Review, Selection and Notification

FTA staff is available to discuss and clarify our expectations regarding these efforts before study sponsors submit applications. After receiving funding proposals, FTA regional offices will conduct an eligibility review with headquarters performing evaluations of the surviving proposals. FTA will announce successful applicants/projects in a subsequent Federal Register notice. The criteria and application procedures may be reassessed for subsequent years.

III. Additional Program Information

A. Funds Administration

Once FTA has reviewed the proposals and selected the winners, FTA will award funds to the project sponsor to support the agreed upon tasks. These funds will be administered according to federal requirements as well as the appropriate policies, guidelines and rules of the pertinent agencies.

The Government's share of the cost of an activity funded using amounts made available under this section may not exceed 80 percent of the cost of the activity.

An amount made available or appropriated for this section remains available for 3 fiscal years, including the fiscal year in which the amount is made available or appropriated. The Secretary may use any amount that is unobligated at the end of the 3-fiscal-year period for any purpose under Section 5339. FTA will not approve deferred local share.

B. Application Methods

(1) State and local agencies may apply by e-mail to 5339GrantApplication@dot.gov, or

(2) Apply electronically through the Grants.Gov portal, or

(3) Agencies may apply via paper application to Steve Lewis-Workman, Federal Transit Administration, TPE-21, 400 Seventh Street, SW., Washington, DC 20590.

C. Performance Measures

Participants may be asked to compile data for use in measuring program performance.

Issued in Washington, DC, this 12th day of March 2007.
James S. Simpson,
Administrator.

[FR Doc. E7-4830 Filed 3-22-07; 8:45 am]

BILLING CODE 4910-57-P